DEPARTMENT OF AGRICULTURE

Food and Nutrition Service

Agency Information Collection Activities: Recordkeeping of D-SNAP Benefit Issuance and Commodity Distribution for Disaster Relief

AGENCY: Food and Nutrition Service (FNS), USDA.

ACTION: Notice.

SUMMARY: In accordance with the Paperwork Reduction Act of 1995, this notice invites the general public and other public agencies to comment on this proposed information collection. This collection is an extension of a currently approved collection. This information collection addresses the recordkeeping burden associated with forms FNS-292A (Report of Commodity Distribution for Disaster Relief) and FNS-292B (Report of Disaster Supplemental Nutrition Assistance Benefit Issuance).

DATES: Written comments must be received on or before February 2, 2024.

ADDRESSES: The Food and Nutrition Services, USDA, invites interested persons to submit written comments.

• Preferred Method: Go to http://www.regulations.gov, and follow the online instructions for submitting comments electronically.

• Regarding form FNS-292A, comments may be sent to Polly Fairfield, Chief, Food Distribution Policy Branch, Policy Division, Food and Nutrition Service, U.S. Department of Agriculture, 1320 Braddock Place, Alexandria, VA 22314, or via email to polly.fairfield@usda.gov.

• Regarding form FNS-292B, comments may be sent to John “David” Noble, Chief, Program Modernization and Integration Branch, Program Development Division, Supplemental Nutrition Assistance Program, Food and Nutrition Service, U.S. Department of Agriculture, 1320 Braddock Place, Alexandria, VA 22314, or via email to john.noble@usda.gov.

All responses to this notice will be summarized and included in the request for Office of Management and Budget (OMB) approval. All comments will be a matter of public record.

FOR FURTHER INFORMATION CONTACT: Requests for additional information or copies of this information collection should be directed to David Noble, (703) 305-4382 or to Polly Fairfield, (703) 305-2746.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Report of Disaster Supplemental Nutrition Assistance Program Benefit Issuances and Report of Commodity Distribution for Disaster Relief.

Form Number: FNS-292A and FNS-292B.

OMB Number: 0584-0037.

Expiration Date: 5/31/2024.

Type of Request: Extension of a currently approved collection.

Abstract: This information collection pertains only to the recordkeeping burden associated with forms FNS-292A and FNS-292B. The reporting burden associated with these forms is approved under OMB No. 0584-0594 (Food Program Reporting System; expiration date: 9/30/2026). The Food and Nutrition Service (FNS) utilizes forms FNS-292A and FNS-292B to collect information not otherwise available on the extent of FNS-funded disaster relief operations. Following OMB approval of this extension, this information collection will be merged with OMB Control # 0584-0336 (expiration 11/30/2025) to streamline burden estimates related to disasters into one information collection.

Form FNS-292A, Report of Commodity Distribution for Disaster Relief, is used by State distributing agencies, including Indian Tribal Organizations administering the Food Distribution Program on Indian Reservations (FDPIR), to provide a summary report to FNS following termination of disaster commodity assistance and to request replacement of donated foods distributed during the disaster or situation of distress. Donated food distribution in disaster situations is authorized under section 32 of the Act of August 24, 1935 (7 U.S.C. 612c); Section 416 of the Agricultural Act of 1949 (7 U.S.C. 1431); Section 709 of the Food and Agriculture Act of 1965 (7 U.S.C. 1446a-1); Section 4(a) of the Agriculture and Consumer Protection Act of 1973 (7 U.S.C. 612c note); and by sections 412 and 413 of the Robert T. Stafford Disaster Relief and Emergency Assistance Act (42 U.S.C. 5179, 5180). Program implementing regulations are contained in part 250 of title 7 of the Code of Federal Regulations (CFR). In accordance with 7 CFR 250.69(f) and 7 CFR 250.70(f), State distributing agencies shall provide a summary report to FNS within 45 days following termination of the disaster assistance and maintain records of these reports and other information relating to disasters.

Form FNS-292B, Report of Disaster Supplemental Nutrition Assistance Benefit Issuance, is used by State agencies to report to FNS the number of households and persons certified for Disaster Supplemental Nutrition Assistance Program (D-SNAP) benefits as well as the value of benefits issued. D-SNAP is a separate program from the Supplemental Nutrition Assistance Program (SNAP) and is authorized by sections 402 and 502 of the Robert T. Stafford Disaster Relief and Emergency Assistance Act (42 U.S.C. 5121 et seq.) and the temporary emergency provisions contained in section 5 of the Food and Nutrition Act of 2008, and in 7 CFR part 280 of the SNAP regulations. State agencies may request FNS approval to operate a D-SNAP to address the temporary food needs of certain households in affected areas following a disaster after certain criteria is met. If approved to operate D-SNAP by FNS, a State agency must submit its final FNS-292B to FNS within 45 days of terminating D-SNAP operations, and maintain records of this report.

The number of disasters that will result in a State requesting to operate a FNS disaster food relief activity in a given year is impossible to predict. However, 55 is the maximum number of State distributing agencies that have ever utilized disaster commodity assistance in a given year. Accordingly, FNS is estimating this burden by assuming that, at maximum, 55 State distributing agency will distribute donated foods during a disaster or situation of distress once per year. In the case of State SNAP agencies, FNS is estimating this burden assuming that each State SNAP agency will request and be approved to operate D-SNAP once per year.

Affected Public: State agencies that administer FNS disaster food relief activities.

Estimated Number of Respondents: 55 Food Distribution State agencies for Form FNS-292A; 53 State SNAP agencies for Form FNS-292B.

Estimated Number of Responses per Respondent: 1 recordkeeping response per State distributing agency; 1 recordkeeping responses per State SNAP agency. 1.964 responses per respondent.

Estimated Total Annual Responses: 108.

Estimated Time per Response: Recordkeeping burden for the State agencies is estimated to be 7.5 minutes (.125 hours) per form (FNS-292A and FNS-292B) per respondent.

Estimated Total Annual Burden on Respondents: Recordkeeping burden for the State agencies is estimated to be 7.5 minutes (.125 hours) per form (FNS-292A and FNS-292B) per respondent for a total of 14 hours (13.5 rounded up).

Respondent | Estimated number of recordkeepers | Number of records per recordkeeper | Total annual records | Estimated average number of hours per record | Estimated total hours
Record Keeping Burden
Food Distribution State Agencies—Commodity Distribution Form FNS-292A | 55 | 1.00 | 55 | 0.125 | 6.875.
State SNAP Agencies—D-SNAP Benefit Issuance Form FNS-292B | 53 | 1.00 | 53 | 0.125 | 6.625.
Total Record Keeping Burden | 55 | 1.964 | 108 | 0.1250 | 14 (13.5 rounded up).

Tameka Owens,
Assistant Administrator, Food and Nutrition Service.

[FR Doc. 2023-26561 Filed 12-1-23; 8:45 am]

BILLING CODE 3410-30-P